DEPARTMENT OF TRANSPORTATION

Surface Transportation Board

[Docket No. FD 35938]

New England Central Railroad, Inc.—Acquisition and Operation Exemption—Claremont Concord Railroad Corp.

New England Central Railroad, Inc. (NECR), a Class III rail carrier, has filed a verified notice of exemption under 49 CFR 1150.41 to acquire from Claremont Concord Railroad Corp. (CCRR) its rights in a line of railroad between milepost 0.29 and milepost 2.1 in Claremont, Sullivan County, N.H., and its rights in a line of railroad between milepost 141.00 +/− and milepost 142.78+/− ¹ in West Lebanon, Graton County, N.H.²

¹ CCRR has recently obtained authority to discontinue service over 0.97 miles of rail line between approximately milepost 140 and milepost 141. See Claremont Concord R.R.—Discontinuance of Serv. Exemption—in Grafton Cnty., N.H., AB 1120 (Sub-No. 1X) et al. (STB served Feb. 12, 2015). NECR is not acquiring any rights with respect to the portion of the rail line over which service is being discontinued.

² CCRR owns the line in Claremont and leases the line in West Lebanon from the State of New Hampshire's Department of Transportation.

The transaction is expected to be consummated on or after September 8, 2015.

NECR has certified that the acquisition does not impose or include an interchange commitment.

NECR has certified that this transaction will not result in NECR's becoming a Class II or Class I rail carrier. Because NECR's projected annual revenues will exceed $5 million, NECR certified to the Board on July 8, 2015, that it has complied with the requirements of 49 CFR 1150.42(e) by providing notice to employees on the affected lines.³ Under 1150.42(e), this exemption cannot become effective until 60 days after the requirements of that section have been satisfied (here, September 6, 2015).

³ In its letter to the Board, NECR stated that, because the employees of CCRR are not represented by any labor unions, it did not serve the national offices of any unions.

If the notice contains false or misleading information, the exemption is void ab initio. Petitions to revoke the exemption under 49 U.S.C. 10502(d) may be filed at any time. The filing of a petition to revoke will not automatically stay the effectiveness of the exemption. Petitions for stay must be filed no later than August 28, 2015 (at least seven days before the exemption becomes effective).

An original and 10 copies of all pleadings, referring to Docket No. FD 35938 must be filed with the Surface Transportation Board, 395 E Street SW., Washington, DC 20423-0001. In addition, one copy of each pleading must be served on Eric M. Hocky, Clark Hill PLC, One Commerce Square, 2005 Market Street, Suite 1000, Philadelphia, PA 19103.

Board decisions and notices are available on our Web site at WWW.STB.DOT.GOV.

Decided: August 18, 2015.
By the Board, Rachel D. Campbell, Director, Office of Proceedings.
Kenyatta Clay,
Clearance Clerk.

[FR Doc. 2015-20675 Filed 8-20-15; 8:45 am]

BILLING CODE 4915-01-P